DEPARTMENT OF DEFENSE

Office of the Secretary

[Transmittal No. 24-116]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-116, Policy Justification, and Sensitivity of Technology.

Dated: January 9, 2026.
Stephanie J. Bost,
Alternate OSD Federal Register Liaison Officer, Department of Defense.

BILLING CODE 6001-FR-P

BILLING CODE 6001-FR-C

Transmittal No. 24-116

Notice of Proposed Issuance of Letter of Offer Pursuant to Section 36(b)(1) of the Arms Export Control Act, as amended

(i) Prospective Purchaser: Government of the United Kingdom

(ii) Total Estimated Value:

Major Defense Equipment * | $45 million
Other | $25 million
TOTAL | $70 million

(iii) Description and Quantity or Quantities of Articles or Services under Consideration for Purchase:

Major Defense Equipment (MDE):

Forty-six (46) Tactical Combat Training System Increment II (TCTS II) air combat training systems

Non-Major Defense Equipment:

The following non-MDE items will also be included: containers; integration and test support; spare and repair parts; publications and technical documentation; personnel training and training equipment; United States (U.S.) Government and contractor engineering, technical, and logistics support services; and other related elements of logistics and program support.

(iv) Military Department: Navy (UK-P-LYI)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: November 18, 2024

* as defined in Section 47(6) of the Arms Export Control Act

POLICY JUSTIFICATION

United Kingdom—Tactical Combat Training System Increment II

The Government of the United Kingdom has requested to buy forty-six (46) Tactical Combat Training System Increment II (TCTS II) air combat training systems. The following non-MDE items will also be included: containers; integration and test support; spare and repair parts; publications and technical documentation; personnel training and training equipment; U.S. Government and contractor engineering, technical, and logistics support services; and other related elements of logistics and program support. The estimated total cost is $70 million.

This proposed sale will support the foreign policy and national security objectives of the U.S. by improving the security of a key NATO Ally that is an important force for political stability and economic progress in Europe.

The proposed sale will improve the United Kingdom's capability to meet current and future threats by improving live, virtual, and constructive tactical combat training. The Royal Air Force's use of the TCTS II furthers U.S.—United Kingdom operational training interoperability. The United Kingdom will have no difficulty absorbing this equipment into its armed forces.

The proposed sale of this equipment and support will not alter the basic military balance in the region.

The principal contractors will be Collins Aerospace, located in Cedar Rapids, IA, and Leonardo DRS Systems, located in Fort Walton Beach, FL. There are no known offset agreements proposed in connection with this potential sale.

Implementation of this proposed sale will not require the assignment of any additional U.S. Government or contractor representatives to the United Kingdom.

There will be no adverse impact on U.S. defense readiness as a result of this proposed sale.

Transmittal No. 24-116

Notice of Proposed Issuance of Letter of Offer Pursuant to Section 36(b)(1) of the Arms Export Control Act, as amended

Annex

Item No. vii

(vii) Sensitivity of Technology:

1. The Tactical Combat Training System Increment II (TCTS II) is a software-configurable, next generation air combat training system built to support 4th and 5th generation fighter training on all air combat training ranges. The TCTS II consists of ground equipment, including Common Ground Subsystem and Remote Range Units, and an airborne subsystem pod installed on the aircraft. The airborne subsystem pod interfaces through a secure connection with an aircraft's weapon and data buses and transmits data to Remote Range Units via L-band or S-band radio frequency (RF) signal. The Remote Range Units then route data via RF, fiber, or cellular to the Common Ground Subsystem for live monitoring and post mission replay.

2. The TCTS II provides aircraft and weapons performance information in real time to assist in accurate and immediate feedback to aircrews on both offensive and defensive tactics and weapons employment. Unsuccessful training missions can be repeated within minutes of restaging instead of waiting for post mission debriefs to learn of mistakes and then having to re-fly the same missions at a later date. This has significant cost savings implications (using fewer flying hours to achieve results) while simultaneously bringing better and more relevant training to pilots.

3. The highest level of classification of the defense articles, components, and services included in this potential sale is SECRET.

4. If a technologically advanced adversary were to obtain knowledge of the specific hardware and software elements, the information could be used to develop countermeasures that might reduce weapon system effectiveness or be used in the development of a system with similar or advanced capabilities.

5. A determination has been made that the United Kingdom can provide substantially the same degree of protection for the sensitive technology being released as the U.S. Government. This sale is necessary in furtherance of the U.S. foreign policy and national security objectives outlined in the Policy Justification.

6. All defense articles and services listed in this transmittal have been authorized for release and export to the Government of the United Kingdom.

[FR Doc. 2026-00533 Filed 1-13-26; 8:45 am]

BILLING CODE 6001-FR-P